DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: NOAA Teacher At Sea Program.

OMB Control Number: 0648-0283.

Form Number(s): NA.

Type of Request: Regular submission (extension of a current information collection).

Number of Respondents: 375.

Average Hours per Response: Applications, 1 hour; recommendations and NOAA Health Services Questionnaire, 15 minutes each; follow-up reports, 2 hours.

Burden Hours: 289.

Needs and Uses: This request is for extension of a current information collection.

NOAA provides educators an opportunity to gain first-hand experience with field research activities through the NOAA Teacher at Sea Program. Educators spend up to four weeks at sea on a NOAA research vessel, participating in an on-going research project with NOAA scientists. The application solicits information from interested educators: Basic personal information, teaching experience and ideas for applying program experience in their classrooms, plus two recommendations and a NOAA Health Services Questionnaire required of anyone selected to participate in the program. Once educators are selected and participate on a cruise, they write a report detailing the events of the cruise and ideas for classroom activities based on what they learned while at sea. These materials are then made available to other educators so they may benefit from the experience.

Affected Public: Individuals or households.

Frequency: One time.

Respondent's Obligation: Required to obtain or retain benefits.

OMB Desk Officer: OIRA_Submission@omb.eop.gov.

Copies of the above information collection proposal can be obtained by calling or writing Jennifer Jessup, Departmental Paperwork Clearance Officer, (202) 482-0336, Department of Commerce, Room 6616, 14th and Constitution Avenue NW., Washington, DC 20230 (or via the Internet at JJessup@doc.gov).

Written comments and recommendations for the proposed information collection should be sent within 30 days of publication of this notice to OIRA_Submission@omb.eop.gov.

Dated: July 5, 2013.
Gwellnar Banks,
Management Analyst, Office of the Chief Information Officer.

[FR Doc. 2013-16609 Filed 7-10-13; 8:45 am]

BILLING CODE 3510-22-P